POSTAL REGULATORY COMMISSION

39 CFR Part 3050

[Docket No. RM2016-12; Order No. 3482]

Periodic Reporting

AGENCY: Postal Regulatory Commission.

ACTION: Notice of proposed rulemaking.

SUMMARY: The Commission is noticing a recent filing requesting that the Commission initiate an informal rulemaking proceeding to consider changes to an analytical method for use in periodic reporting (Proposal Four). This notice informs the public of the filing, invites public comment, and takes other administrative steps.

DATES: Comments are due: October 7, 2016. Reply Comments are due: October 21, 2016.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Proposal Four

III. Notice and Comment

IV. Ordering Paragraphs

I. Introduction

On August 22, 2016, the Postal Service filed a petition pursuant to 39 CFR 3050.11 requesting that the Commission initiate an informal rulemaking proceeding to consider changes to an analytical method for use in periodic reporting.¹ The Petition identifies the proposed analytical method changes filed in this docket as Proposal Four.

¹ Petition of the United States Postal Service for the Initiation of a Proceeding to Consider Proposed Changes in Analytical Principles (Proposal Four), August 22, 2016 (Petition).

II. Proposal Four

Proposal Four concerns the treatment of purchased highway transportation costs within the Cost and Revenue Analysis report. The objective of the proposal is to improve the methodology for calculating attributable purchased highway costs by incorporating the variability of purchased highway transportation capacity with respect to volume into the calculation of attributable costs for purchased highway transportation. Petition at 2. In support of its Petition, the Postal Service has attached a report: “Research on Estimating the Variability of Purchased Highway Transportation Capacity with Respect to Volume” by Michael D. Bradley, Department of Economics, George Washington University.

III. Notice and Comment

The Commission establishes Docket No. RM2016-12 for consideration of matters raised by the Petition. More information on the Petition may be accessed via the Commission's Web site at http://www.prc.gov. Interested persons may submit comments on the Petition and Proposal Four no later than October 7, 2016. Reply comments are due no later than October 21, 2016. Pursuant to 39 U.S.C. 505, Lawrence Fenster is designated as officer of the Commission (Public Representative) to represent the interests of the general public in this proceeding.

IV. Ordering Paragraphs

It is ordered:

1. The Commission establishes Docket No. RM2016-12 for consideration of the matters raised by the Petition of the United States Postal Service for the Initiation of a Proceeding to Consider Proposed Changes in Analytical Principles (Proposal Four), filed August 22, 2016.

2. Comments by interested persons in this proceeding are due no later than October 7, 2016. Reply comments are due no later than October 21, 2016.

3. Pursuant to 39 U.S.C. 505, the Commission appoints Lawrence Fenster to serve as an officer of the Commission (Public Representative) to represent the interests of the general public in this docket.

4. The Secretary shall arrange for publication of this order in the Federal Register.

By the Commission.
Stacy L. Ruble,
Secretary.

[FR Doc. 2016-20822 Filed 8-29-16; 8:45 am]

BILLING CODE 7710-FW-P